ENVIRONMENTAL PROTECTION AGENCY

[EPA-HQ-ORD-2015-0765; FRL-10643-01-ORD]

Request for Public Nominations of Experts to Serve on a Review Panel

AGENCY: Environmental Protection Agency (EPA).

ACTION: Notice.

SUMMARY: The U.S. Environmental Protection Agency (EPA) is seeking nominations for technical experts to serve as Special Government Employees (SGEs) on a review panel under the authority of the Board of Scientific Counselors (BOSC), a federal advisory committee to the Office of Research and Development (ORD). Selected experts will participate in the review of the ORD's draft report on a case study that uses value of information (VOI) analysis to weigh the public health and economic trade-offs associated with the timeliness, uncertainty, and costs of the draft EPA Transcriptomic Assessment Product (ETAP). The ETAP is a proposed ORD assessment product that utilizes a standardized short-term in vivo study design and data analysis procedures to develop transcriptomic-based toxicity values for data poor chemicals. The review will take place between April and July 2023. Submission of nominations should be made via the BOSC website at: https://www.epa.gov/bosc.

DATES: Nominations should be submitted by March 3, 2023, per instructions below.

FOR FURTHER INFORMATION CONTACT: Any member of the public needing additional information regarding this Notice and Request for Nominations may contact Mr. Tom Tracy, Office of Science Policy, Office of Research and Development, Mail Code B343-01, 109 T.W. Alexander Drive, Research Triangle Park, NC 27711; via phone/voice mail at: (919) 541-4334; or via email at: tracy.tom@epa.gov. General information concerning the BOSC can be found at the following website: https://www.epa.gov/bosc.

SUPPLEMENTARY INFORMATION:

Background

The BOSC is a chartered Federal Advisory Committee established by the EPA to provide independent scientific and technical peer review, advice, consultation, and recommendations about ORD. As a Federal Advisory Committee, the BOSC conducts business in accordance with the Federal Advisory Committee Act (FACA) (5 U.S.C. app. 2) and related regulations. The BOSC is comprised of an Executive Committee and two supporting subcommittee(s): Social and Community Science, and Climate Change. Please visit https://www.epa.gov/aboutepa/about-office-research-and-development-ord to learn more about ORD's research programs. Members of the BOSC constitute a distinguished body of non-EPA scientists, engineers, and economists who are experts in their respective fields. The chartered BOSC provides scientific advice to the EPA Administrator on a variety of EPA science and research topics. All the work of BOSC standing committees and ad-hoc panels is conducted under the auspices of the chartered BOSC. The chartered BOSC executive committee review all BOSC standing committee and ad-hoc panel draft reports and determine whether each meets the BOSC's criteria and high-quality standards required to deliver them to the EPA Administrator.

The BOSC will evaluate ORD's draft report on a case study that uses value of information (VOI) analysis to weigh the public health and economic trade-offs associated with the timeliness, uncertainty, and costs of the draft EPA Transcriptomic Assessment Product (ETAP). The ETAP is a proposed ORD assessment product that utilizes a standardized short-term in vivo study design and data analysis procedures to develop transcriptomic-based toxicity values for data poor chemicals. The draft report will be provided in the BOSC docket prior to the meeting and will present an in-depth comparison of the ETAP with traditional toxicity testing and human health assessment processes across different chemical exposure scenarios, health endpoint valuations, exposure mitigation costs, and decision contexts. The review of the draft report on the VOI case study by the BOSC is being performed in close coordination with a separate BOSC review of the underlying scientific studies supporting development and implementation of the ETAP.

Expertise Sought

The EPA invites nominations of individuals to serve as SGEs with expertise or extensive experience in the following scientific disciplines and topic areas as they relate to human health and the environment:

• Decision analysis, including value of information

• Human health chemical risk assessment

• Toxicology

• Exposure science, including computational exposure modeling

• Statistics, including Bayesian methods

• Health economics

• Transcriptomics, including dose response modeling of transcriptomic data

Selection Criteria

Nominations will be evaluated on the basis of several criteria including: (a) demonstrated scientific and/or technical credentials and disciplinary expertise, knowledge, and experience in relevant fields; (b) availability to serve and willingness to commit time to the committee (approximately one to three meetings per year both by teleconferences and possibly face-to-face meetings); (c) absence of financial conflicts of interest; (d) absence of an appearance of a lack of impartiality; (e) demonstrated ability to work constructively and effectively on committees; and (f) background and experiences that would contribute to the diversity of viewpoints, e.g., workforce sector, geographical location, social, cultural, and educational backgrounds, and professional affiliations.

Process and Deadline for Submitting Nominations

Any interested person or organization may nominate qualified persons to be considered for appointment as an SGE. Nominations should be submitted via the BOSC website at: https://www.epa.gov/bosc. Nominations should be submitted no later than March 3, 2023. To receive full consideration, nominations should include all the information requested. EPA's nomination form requests: contact information about the person making the nomination; contact information about the nominee; the disciplinary and specific areas of expertise of the nominee; the nominee's curriculum vita and/or resume; and additional information that would be useful for considering the nomination such as background and qualifications (e.g., current position, educational background, expertise, research areas), experience relevant to one or more of ORD's research programs, service on other advisory committees and professional societies, and availability to participate as an SGE. Persons having questions about the nomination procedures, or who are unable to submit nominations through the BOSC website, should contact Mr. Tom Tracy, as indicated above under FOR FURTHER INFORMATION CONTACT section of this notice.

Mary Ross,
Director, Office of Science Advisor, Policy and Engagement.

[FR Doc. 2023-03018 Filed 2-10-23; 8:45 am]

BILLING CODE 6560-50-P